DEPARTMENT OF ENERGY

Office of Energy Efficiency and Renewable Energy

Golden Field Office; Hydrogen Program

AGENCY: The Department of Energy (DOE).

ACTION: Supplemental Announcement (03) to the Fiscal Year 2001 Broad Based Solicitation for Submission of Financial Assistance Applications Involving Research, Development, and Demonstration for the Office of Energy Efficiency and Renewable Energy, DE-PS36-01GO90000.

SUMMARY: The Hydrogen Program of the Department of Energy (DOE) Office of Energy Efficiency and Renewable Energy (EERE) is issuing a Supplemental Announcement to the EERE Fiscal Year 2001 Broad Based Solicitation for Submission of Financial Assistance Applications Involving Research, Development and Demonstration, DE-PS36-01GO90000, dated November 27, 2000. Under this Supplemental Announcement, DOE is seeking applications for the demonstration of a “power park” that uses hydrogen as an energy carrier. The envisioned facility will provide electric power and heat to a building complex or industrial facility by means of hydrogen delivered from a centralized reformer. The expected scale for the centralized reformer is 50 kW. The project should include an evaluation of the merits of a centralized fuel cell stack versus smaller fuel cell stacks distributed throughout the park. As an additional option, hydrogen may also be co-produced for manufacturing/processing in industrial applications. DOE is proposing to fund this effort under the provisions of the Hydrogen Future Act of 1996.

DOE anticipates selecting one Application for negotiation of an award under this Supplemental Announcement. The award will be a Cooperative Agreement with a term of up to three years. A minimum cost share of 50% of the total project costs is required for an Application to be considered for award under this Supplemental Announcement. Subject to availability, the total DOE cost share contribution is anticipated to be up to $100,000 in Fiscal Year 2001, $300,000 in 2002, and $300,000 in 2003.

All information regarding the Supplemental Announcement will be posted on the DOE Golden Field Office Home page at the address identified below.

DATES: DOE expects to issue the Supplemental Announcement around mid-January, 2001. The closing date of the Supplemental Announcement is March 21, 2001.

ADDRESSES: The Supplemental Announcement will be posted on the DOE Golden Field Office Home Page at http://www.golden.doe.gov/businessopportunities.html under “Solicitations”.

FOR FURTHER INFORMATION CONTACT: Margo Gorin, Contract Specialist, at Facsimile 303-275-4788 or e-mail Margo_Gorin@nrel.gov.

Issued in Golden, Colorado, on January 12, 2001.
Jerry L. Zimmer,
Procurement Director, Golden Field Office.

[FR Doc. 01-2467 Filed 1-26-01; 8:45 am]

BILLING CODE 6450-01-P